FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 009831-023.

Title: New Zealand/United States Container Lines Association.

Parties: Australia-New Zealand Direct Line; CP Ships USA, LLC; and Hamburg-Sud.

Filing Party: Wayne R. Rohde, Esq.; Sher & Blackwell LLP; 1850 M Street NW.; Suite 900; Washington, DC 20036.

Synopsis: The amendment removes P&O Nedlloyd Limited as a party to the agreement.

Agreement No.: 011834-002.

Title: Maersk Sealand/Hapag-Lloyd Mediterranean U.S. East Coast Slot Charter Agreement.

Parties: A.P. Moller Maersk A/S and Hapag-Lloyd Container Linie GmbH.

Filing Party: Wayne R. Rohde, Esq.; Sher & Blackwell LLP; 1850 M Street NW.; Suite 900; Washington, DC 20036.

Synopsis: The amendment expands the range of Spanish ports covered by the agreement and adds ports in France to the geographic scope of the agreement.

Dated: October 28, 2005.
By order of the Federal Maritime Commission.
Bryant L. VanBrakle,
Secretary.

[FR Doc. 05-21852 Filed 11-1-05; 8:45 am]

BILLING CODE 6730-01-P